DEPARTMENT OF LABOR

Employment and Training Administration

Announcement of the Tools for America's Job Seekers Challenge

AGENCY: Employment and Training Administration, Labor.

ACTION: Notice.

SUMMARY: The U.S. Department of Labor's (DOL) Employment and Training Administration (ETA), in conjunction with the White House and IdeaScale, is launching the Tools for America's Job Seekers Challenge. Using an on-line platform designed by IdeaScale, the Challenge will allow toolmakers and developers to present their on-line job tools to workforce development experts and job seekers to explore, discuss, and recommend. The tools that receive the most recommendations will be shared broadly with the workforce investment system and job seekers, allowing workforce system decision-makers to easily access the recommendations of their peers and customers. Workforce system decision-makers can use this feedback to inform their decisions about which tools to make available through One-Stop Career Centers, State job banks, and other Internet-based resources. Selection of a tool does not constitute an official endorsement by DOL or ETA: This is not an opportunity to apply for government funding, and ETA will not make any funds available to any party pursuant to this announcement.

SUPPLEMENTARY INFORMATION: In a fast-changing marketplace, it is difficult for job seekers and the nation's almost 3,000 One-Stop Career Centers to keep up with state of the art on-line job search and career advancement tools. Therefore, DOL and ETA are challenging enterprising entrepreneurs and organizations to showcase their on-line solutions through a platform that allows workforce system decision-makers and job seeker customers to explore, comment on, and recommend tools. The Challenge will help the workforce investment system uncover the most effective on-line tools. ETA will work with Federal, State, and local workforce system professionals and partners at the conclusion of the Challenge to deploy the tools in the most efficient way throughout the workforce system, to help quickly connect job seekers to the jobs currently available in the economy.

The Challenge will be run in three phases. Phase One will operate from November 30, 2009 to December 18, 2009. ETA encourages entrepreneurs and organizations to help develop an inventory of on-line job search and career advancement tools by submitting information on their tools at www.DOLChallenge.Ideascale.com. Although DOL is primarily interested in identifying tools that are free for the use of America's jobseekers, tools with a fee may be submitted as long as the submitter provides a short-term demo site or other platform that allows the tools to be reviewed free of charge in Phase 2 of the Challenge. After the Challenge has been completed, the workforce development system and job seekers can decide whether to buy or license such tools. DOL will accept submissions from businesses and entrepreneurs, nonprofit organizations, and State and local workforce agencies. Participating tools will be classified into one or more of these categories:

• General job boards, listing sites, and aggregators

• Niche job boards

• Career tools such as ladders, transition tools, etc.

• Web-based career exploration sites

• Web 2.0/social media sites specializing in job searches or job postings

• Other job matching and career advancement tools

Along with the tool itself, ETA will ask developers to provide basic information such as the target uses and users of the tool or product, and contact information. At their option, developers may also submit a YouTube video of their tool in action or other tool-related materials.

Phase Two will operate from January 4 to January 15, 2010. Workforce development professionals and job seekers are invited to test-drive the tools and recommend those they find useful. Reviewers are encouraged to recommend tools based on: (1) How effective the tool is in providing accurate results—including how well the tool reflects jobs available in the target labor market; (2) how efficient the tool is in completing job search and matching tasks in a reasonable amount of time; and (3) the level of satisfaction the user experienced. Reviewers may recommend as many tools as they wish, and are encouraged to comment on the tools to provide more feedback on their experience with the tools. Phase Three will begin at the end of January. DOL and ETA will publish the top tools in each category, allowing workforce system decision-makers to easily access the recommendations of their peers and customers, and use this feedback to inform their decisions about which tools to make available through One-Stop Career Centers, State job banks, and other Internet-based resources.

As a result of the Challenge, the workforce development system will have increased awareness of on-line tools that can help meet the job information needs of the significantly increased number of customers requiring service in the current economic recovery effort.

Paperwork Reduction Act (PRA) Statement: The annualized public reporting burden for the collection of information described in this Notice (OMB Control No. 1205-0476, Expiration Date 05/31/2010), which is voluntary, is estimated to average approximately ten minutes per respondent for Phase One and five minutes per tool commented on in Phase Two.

FOR FURTHER INFORMATION CONTACT: Anthony D. Dais, Designated Project Officer, Office of Workforce Investment at (202) 693-2784; or e-mail DOL.Challenge@dol.gov.

Signed: at Washington, DC this 9th day of December 2009.
Jane Oates,
Assistant Secretary for Employment and Training.

[FR Doc. E9-29831 Filed 12-11-09; 11:15 am]

BILLING CODE 4510-FN-P